FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (www.fmc.gov) or by contacting the Office of Agreements at (202) 523-5793 or tradeanalysis@fmc.gov.

Agreement No.: 012212.

Title: NYK/Inarme Cooperative Working Agreement.

Parties: NYK Group Europe Ltd and Industria Armamento Meridionale S.P.A. (Inarme)

Filing Party: Mark R. Weaver; NYK Line (NA) Inc.; 300 Lighting Way, 5th Floor; Secaucus, NJ 07094.

Synopsis: The agreement authorizes NYK to charter space to Inarme in the trade from North Europe on the one hand to the U.S. West Coast on the other hand.

By Order of the Federal Maritime Commission.
Dated: June 28, 2013.
Karen V. Gregory,
Secretary.

[FR Doc. 2013-16048 Filed 7-2-13; 8:45 am]

BILLING CODE 6730-01-P